NATIONAL AERONAUTICS AND SPACE ADMINISTRATION

[Notice 09-040]

Notice of Establishment of a NASA Advisory Committee, Pursuant to the Federal Advisory Committee Act, 5 U.S.C. App.

AGENCY: National Aeronautics and Space Administration.

Explanation of Need: The Administrator of the National Aeronautics and Space Administration has determined that the establishment of a Review of U.S. Human Space Flight Plans Committee is necessary and in the public interest in connection with duties imposed upon NASA by law. This determination follows consultation with the Committee Management Secretariat, General Services Administration.

Name of Committee: Review of U.S. Human Space Flight Plans Committee.

Purpose and Objective: The Committee shall conduct an independent review of ongoing U.S. human space flight plans and programs, as well as alternatives, to ensure that the nation is pursuing the best trajectory for the future of human space flight—one that is safe, innovative, affordable, and sustainable. The Committee should aim to identify and characterize a range of options that spans the reasonable possibilities for continuation of U.S. human space flight activities beyond retirement of the Space Shuttle. The identification and characterization of these options should address the following objectives: (a) Expediting a new U.S. capability to support utilization of the International Space Station (ISS); (b) supporting missions to the Moon and other destinations beyond low Earth orbit (LEO); (c) stimulating commercial space flight capability; and (d) fitting within the current budget profile for NASA exploration activities.

In addition to the objectives described above, the review should examine the appropriate amount of R&D and complementary robotic activities needed to make human space flight activities most productive and affordable over the long term, as well as appropriate opportunities for international collaboration. It should also evaluate what capabilities would be enabled by each of the potential architectures considered. It should evaluate options for extending International Space Station operations beyond 2016. The Committee shall conduct meetings as appropriate at various locations throughout the United States. The Committee will provide advice only and will comply fully with the provisions of the Federal Advisory Committee Act (FACA).

Lack of Duplication of Resources: The Committee's functions cannot be performed by the Agency, another existing committee, or other means such as a public meeting.

Fairly Balanced Membership: The Committee will consist of independent experts from academia, industry, nonprofit organizations as well as private citizens. Total membership will reflect a fairly balanced view. In addition, subcommittees, task forces and/or work groups may be established by NASA to conduct studies and/or fact-finding requiring an effort of limited duration. Such subcommittees, task forces and work groups will report their findings and recommendations directly to the Committee.

Duration: The Committee will exist for 180 days, unless earlier renewed.

Responsible NASA Official: Mr. Philip McAlister, Office of Program Analysis and Evaluation, NASA Headquarters, 300 E Street, SW., Washington, DC 20546, (202) 358-0712.

Dated: May 12, 2009.
P. Diane Rausch,
Advisory Committee Management Officer, National Aeronautics and Space Administration.

[FR Doc. E9-11412 Filed 5-14-09; 8:45 am]

BILLING CODE 7510-13-P